DEPARTMENT OF LABOR

Employment and Training Administration

[TA-W-60,451]

Kester, Inc.; Des Plaines, IL; Notice of Termination of Investigation

Pursuant to Section 221 of the Trade Act of 1974, as amended, an investigation was initiated on November 16, 2006 in response to a worker petition filed by a company official on behalf of workers of Kester, Inc., Des Plaines, Illinois.

The petitioning group of workers is covered by an active certification (TA-W-56,972) which expires on May 11, 2007. Consequently, further investigation in this case would serve no purpose, and the investigation has been terminated.

Signed at Washington, DC this 21st day of December 2006.
Richard Church,
Certifying Officer, Division of Trade Adjustment Assistance.

[FR Doc. E7-143 Filed 1-9-07; 8:45 am]

BILLING CODE 4510-30-P